DEPARTMENT OF JUSTICE

Antitrust Division

Notice Pursuant to the National Cooperative Research and Production Act of 1993—VSI Alliance

Notice is hereby given that, on April 8, 2003, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Agere Systems, Inc., Allentown, PA; ControlNet, Inc., Campbell, CA; M-Techno Structure IT-Solution GmbH, Vienna, Austria; NewLogic Technologies AG, Lustenau, Austria; Sanyo LSI Technology, India PVT. Ltd., Bangalore, India; TaraCom Integrated Products, Inc., Sunnyvale, CA; True Circuits, Inc., Los Altos, CA; UMC, Hsin-Chu, Taiwan; and Kurt Woodland (individual member), Morgan Hill, CA have been added as parties to this venture.

Also, Arasan Chip Systems, San Jose, CA; Axeon Ltd, Aberdeen, Scotland, United Kingdom; Conexant Spinco, Inc., Newport Beach, CA; Lateral Sands, West Perth, Western Australia, Australia; Timothy O'Donnell (individual member), Los Gatos, CA; Robert Bosch GmbH, Reutlingen, Germany; Siroyan, Ltd., Reading, United Kingdom; Thales Group, Gennevilliers, France; TriMedia Technologies, Milpitas, CA; and WIS Technologies, San Jose, CA have been dropped as parties to this venture.

No other changes have been made in either the membership or planned activity of the group research project. Membership in this group research project remains open, and VSI Alliance intends to file additional written notification disclosing all changes in membership.

On November 29, 1996, VSI Alliance filed its original notification pursuant to section 6(a) of the Act. The Department of Justice published a notice in the Federal Register pursuant to section 6(b) of the Act on March 4, 1997 (62 FR 9812).

The last notification was filed with the Department on January 13, 2003. A notice was published in the Federal Register pursuant to section 6(b) of the Act on February 11, 2003 (68 FR 6947).

Constance K. Robinson,
Director of Operations, Antitrust Division.

[FR Doc. 03-11956 Filed 5-13-03; 8:45 am]

BILLING CODE 4410-11-M